EQUAL EMPLOYMENT OPPORTUNITY COMMISSION

Sunshine Act Meetings

TIME AND DATE: Tuesday, January 14, 2026, 9:00 a.m. Eastern Time.

PLACE: The meeting will be held at the Jacqueline A. Berrien Training Center, 131 M Street NE, Washington, DC 20507. The meeting will also be held as a listen-only audio dial-in by telephone. The public may attend in person or connect to the audio-only dial-in by following the instructions that will be posted on www.eeoc.gov at least 24 hours before the meeting. ASL services will be available.

STATUS: The meeting will be open to the public.

MATTERS TO BE CONSIDERED:

The following items will be considered at the meeting:

• Rescission of Commission Voting Procedures

• Resolution Concerning Chair and Commission Roles Regarding Agency Organizational Changes

Note: In accordance with the Sunshine Act, the public will be able to observe the Commission's deliberations and voting. (In addition to publishing notices on Commission meetings in the Federal Register, the Commission also provides information about Commission meetings on its website, www.eeoc.gov, and provides a recorded announcement one week in advance of future Commission meetings.)

Please telephone (202) 921-2705, or email commissionmeetingcomments@eeoc.gov at any time for information on this meeting. A transcript of the meeting will be made available on the agency's website thereafter.

CONTACT PERSON FOR MORE INFORMATION: Raymond Windmiller, Executive Officer, (202) 921-2705.

Dated: January 7, 2026.
Raymond D. Windmiller,
Executive Officer, Executive Secretariat.

[FR Doc. 2026-00251 Filed 1-7-26; 4:15 pm]

BILLING CODE 6570-01-P